DEPARTMENT OF THE INTERIOR

Bureau of Land Management

[20X.LLWY9211000.L54400000.EU0000.LVCLK19K152000; WYW-185641]

Notice of Realty Action: Proposed Big Piney-Marbleton Airport Board, Miley Memorial Field Airport Conveyance

AGENCY: Bureau of Land Management, Interior.

ACTION: Notice of realty action.

SUMMARY: The Bureau of Land Management (BLM) has examined certain public lands in Sublette County, Wyoming totaling 7.50 acres, and found them suitable for conveyance to the Big Piney-Marbleton Airport Board (Patentee) under the provisions of Sec. 516 of the Airport and Airway Improvement Act of 1982. The conveyance would support improvements to the Miley Memorial Field Airport near the towns of Big Piney and Marbleton, Wyoming.

DATES: Interested parties may submit written comments regarding this conveyance on or before January 14, 2021.

ADDRESSES: Please send written comment regarding this notice by mail to Keesha Clay, Senior Realty Specialist, BLM Wyoming State Office, 5353 Yellowstone Road, Cheyenne, Wyoming 82009.

FOR FURTHER INFORMATION CONTACT: Keesha Clay, Senior Realty Specialist, at the above address, or by telephone at 307-775-6189. Persons who use a telecommunications device for the deaf may call the Federal Relay Service (FRS) at 1-800-877-8339 to contact the above individual during normal business hours. The FRS is available 24 hours a day, seven days a week, to leave a message or question for the above individual. You will receive a reply during normal business hours.

SUPPLEMENTARY INFORMATION: The Federal Aviation Administration (FAA), on behalf of the Patentee, requested the conveyance of 7.50 acres of public lands for improvements to bring the Miley Memorial Field Airport into compliance with FAA safety and design standards. Under Section 516 of the Airport and Airway Improvement Act of 1982 (Pub. L. 97-248; 49 U.S.C. 47125), 43 CFR 2640 and 14 CFR 153, the BLM proposes to convey the following described lands:

Sixth Principal Meridian, Wyoming

T. 30 N., R. 111 W.,

sec. 7, lot 6, SW¼SW¼SE¼NW¼, and SW¼SW¼SW¼SE¼.

The areas described aggregate 7.50 acres.

This notice informs the public that the FAA, on behalf of the Patentee, is requesting the conveyance of public lands for runway and associated improvements to comply with FAA safety and design standards. The Miley Memorial Field Airport currently falls short of some FAA safety and design standards and does not meet all the needs of current and future users. Runway 13/31 does not provide sufficient takeoff distance or strength for current and forecasted users. The conveyance will allow for improvements to support the reconstruction of Runway 13/31, including construction of an associated parallel taxiway and relocation of the airport's perimeter fencing. It will also increase protections for the existing airport's runway object-free area and runway protection zone, which currently include public lands. The FAA recommends that airports control certain lands around them by obtaining ownership in fee or by easement to ensure compatible land uses, thereby enhancing overall safety.

The conveyance is consistent with the Record of Decision and Approved Pinedale Field Office Resource Management Plan, as amended and approved November 26, 2008, which allows public lands to be transferred to other public agencies if the conveyance would achieve an important objective and benefit the public. Conveyance of the proposed lands is also consistent with all other applicable Federal and county land use plans and meets the needs of the community. The lands are not required for any other Federal purpose, and their disposal would not impede access to any other Federal lands in the vicinity or harm any other resources in the area.

This notice segregates the above-described public lands from operation of the public land laws, including the mining laws, except for their conveyance under the Airport and Airway Improvement Act of 1982. The segregative effect will end upon issuance of a conveyance document or one year from the date of this publication, whichever occurs first.

The patent, if issued, will contain the following reservations to the United States:

Excepting and reserving to the United States:

1. A right-of-way thereon for ditches or canals constructed under the authority of the United States, as authorized by the Act of August 30, 1890 (43 U.S.C. 945).

2. All minerals in the lands, together with the right to mine and remove the same under applicable laws and regulations. The Secretary of the Interior reserves the right to determine whether such mining and removal of minerals will interfere with the development, operation, and maintenance of the airport.

By acceptance of this patent, the Patentee agrees for itself, its successors, or its assignees, that the following covenants and conditions shall attach to and run with the land being conveyed:

1. The Patentee will use the conveyed property for airport purposes and will develop that property for airport purposes within five years or as set forth in the conveyance instrument, deed, or quitclaim instrument. Any interim use will be subject to terms and conditions as set by the FAA.

2. The Patentee will operate the airport, together with its appurtenant areas, buildings, and facilities, regardless of whether they are on the land being conveyed, as a public use airport on fair and reasonable terms and without unjust discrimination.

3. The Patentee will not grant or permit any exclusive right in the operation and use of the airport, together with its appurtenant areas, buildings, and facilities, regardless of whether they are on the land being conveyed, as required by Section 303 of the Federal Aviation Act of 1938, as amended, and Section 308(a) of the Federal Aviation Act of 1958, as amended.

4. Any subsequent transfer of the conveyed property interest to another nonfederal public entity will be subject to the terms, conditions, and covenants set forth in the original instrument of conveyance. If the land conveyed is no longer needed for airport purposes, the land may revert to the U.S. Government.

5. In the event of a breach of any term, condition, or covenant contained in the conveyance instrument, the Patentee will, on demand, take such action as required to transfer ownership of the conveyed premises to the U.S. Government.

6. The terms, conditions, covenants, and other federally obligating provisions in the conveyance instrument remain in force and effect as long as the land is held by the Patentee, its successors, or assignees.

Application Comments: The environmental assessment, maps, and terms and conditions are available for review at the ADDRESSES listed above. Interested parties may submit comments regarding the specific use proposed in the application or any other factor not directly related to the suitability of the lands for an airport conveyance. The BLM Wyoming State Director will review any adverse comments regarding the conveyance and may sustain, vacate, or modify this realty action. In the absence of any adverse comments, the decision will become final. The lands will not be offered for conveyance until the BLM has signed a Decision Record for the completed Environmental Assessment.

Before including your address, phone number, email address, or other personal identifying information in your comment, you should be aware that your entire comment, including your personal identifying information, may be made available to the public at any time. While you can ask in your comment to withhold your personal identifying information from public review, we cannot guarantee that we will be able to do so.

Authority: 43 CFR 2640 and FAA 14 CFR part 153.

Kimber Liebhauser,
Wyoming Acting State Director.

[FR Doc. 2020-26324 Filed 11-27-20; 8:45 am]

BILLING CODE 4310-22-P